DEPARTMENT OF LABOR

Employment and Training Administration

[TA-W-62,982]

Employment Giant, LLC, Warren, MI; Notice of Termination of Investigation

Pursuant to Section 221 of the Trade Act of 1974, as amended, an investigation was initiated on March 11, 2008, in response to a petition filed by a State agency representative on behalf of workers of Employment Giant, LLC, Warren, Michigan, working at Thyssenkrupp Budd, Detroit, Michigan.

The petitioning worker group is covered by petition certification number TA-W-60,703, amended on May 15, 2008, to reflect that Thyssenkrupp Budd, Detroit, Michigan, began using the payroll service of Employment Giant, LLC to pay the wages of the workers at the producing firm.

Since the petitioning worker group is covered by amended TA-W-60,703, further investigation in this case would serve no purpose, and the investigation has been terminated.

Signed in Washington, DC, this 15th day of May 2008.
Linda G. Poole,
Certifying Officer, Division of Trade Adjustment Assistance.

[FR Doc. E8-11371 Filed 5-21-08; 8:45 am]

BILLING CODE 4510-FN-P